FEDERAL COMMUNICATIONS COMMISSION

[DA 24-338; FR ID 213961]

Disability Advisory Committee; Announcement of Meeting

AGENCY: Federal Communications Commission.

ACTION: Notice.

SUMMARY: In this document, the Commission announces the fourth meeting of the fifth term of its Disability Advisory Committee (DAC or Committee).

DATES: Thursday, May 16, 2024. The meeting will come to order at 10:00 a.m. Eastern Time.

ADDRESSES: The DAC meeting will be held remotely, with video and audio coverage at: www.fcc.gov/live.

FOR FURTHER INFORMATION CONTACT: Joshua Mendelsohn, Designated Federal Officer, Federal Communications Commission, (202) 559-7304, or email: dac@fcc.gov.

SUPPLEMENTARY INFORMATION: This meeting is open to members of the general public. The meeting will be webcast with sign language interpreters and open captioning at: www.fcc.gov/live. In addition, a reserved amount of time will be available on the agenda for comments and inquiries from the public. Members of the public may comment or ask questions of presenters via livequestions@fcc.gov.

Requests for other reasonable accommodations or for materials in accessible formats for people with disabilities should be submitted via email to: fcc504@fcc.gov or by calling the Consumer and Governmental Affairs Bureau at (202) 418-0530. Such requests should include a detailed description of the accommodation needed and a way for the FCC to contact the requester if more information is needed to fill the request. Requests should be made as early as possible; last minute requests will be accepted but may not be possible to accommodate.

Proposed Agenda: At this meeting, the DAC is expected to (1) hold a facilitated conversation on the current and emerging challenges and opportunities in the area of digital accessibility; (2) receive updates from the working groups; and (3) address any other topics relevant to the DAC's work.

Federal Communications Commission.
Suzanne Singleton,
Chief, Disability Rights Office, Consumer and Governmental Affairs Bureau.

[FR Doc. 2024-08386 Filed 4-18-24; 8:45 am]

BILLING CODE 6712-01-P